DEPARTMENT OF LABOR

Office of Disability Employment Program

“Add Us In” Initiative

AGENCY: Office of Disability Employment Policy, Department of Labor.

ACTION: Correction to the Funding Opportunity Number and Closing Date.

SUMMARY: The Office of Disability Employment Policy, Department of Labor is correcting the New Notice of Availability of Funds and Solicitation for Grant Applications (SGA) for Cooperative Agreements published in the Federal Register on August 4, 2011 at 76 FR 150. Specifically, we are correcting the Funding Opportunity Number to SGA 11-05 and the Closing Date for receipt of applications to September 2, 2011. The full Solicitation for Grant Applications is posted on http://www.grants.gov under U.S. Department of Labor/ODEP. If you need to speak to a person concerning these grants, you may telephone Cassandra Mitchell at 202-693-4570 (not a toll-free number).

Signed in Washington, DC, this 4th day of August 2011.
Cassandra R. Mitchell,
Grant Officer.

[FR Doc. 2011-20211 Filed 8-9-11; 8:45 am]

BILLING CODE 4510-FT-P